DEPARTMENT OF COMMERCE

National Oceanic and Atmospheric Administration

50 CFR Part 622

[Docket No. 030417091-3091-01; I.D. 040903B]

RIN 0648-AR00

Fisheries of the Caribbean, Gulf of Mexico, and South Atlantic; Shrimp Resources of the Gulf of Mexico; Commercial Shrimp Fishery of the Gulf of Mexico; Control Date

AGENCY: National Marine Fisheries Service (NMFS), National Oceanic and Atmospheric Administration (NOAA), Commerce.

ACTION: Advance notice of proposed rulemaking; consideration of a control date.

SUMMARY: This notice announces that the Gulf of Mexico Fishery Management Council (GMFMC) is considering additional management measures to limit entry into the commercial fishery for shrimp in the exclusive economic zone of the Gulf of Mexico (Gulf EEZ). Possible measures include the establishment of a limited entry program to control participation or effort in the commercial shrimp fishery. If a limited entry program is established, the GMFMC is considering December 6, 2003, as a possible control date.

DATES: Comments must be submitted by May 29, 2003.

ADDRESSES: Comments should be directed to the Gulf of Mexico Fishery Management Council, 3018 U.S. Highway 301 North, Suite 1000, Tampa, Florida 33619-2266; Fax: 813-225-7015.

FOR FURTHER INFORMATION CONTACT: Steve Branstetter, 727-570-5305.

SUPPLEMENTARY INFORMATION: The commercial fishery for shrimp in the Gulf EEZ is managed under the Fishery Management Plan for the Shrimp Fishery of the Gulf of Mexico (FMP). The FMP was prepared by the GMFMC, and implemented under the authority of the Magnuson-Stevens Fishery Conservation and Management Act. Amendment 11 to the FMP was approved by NMFS on October 17, 2001, and a final rule implementing the actions described in Amendment 11 was promulgated on August 7, 2002 (67 FR 51074). Those regulations, effective September 6, 2002, included a requirement for all vessel owners or operators who harvest shrimp in the Gulf EEZ to obtain a commercial vessel permit. Owners or operators had 90 days to comply; commercial shrimp vessels harvesting shrimp from the Gulf EEZ on or after December 5, 2002, were required to have this Federal vessel permit onboard. For the purposes of the FMP, shrimp is defined to include the following species: brown, pink, white, rock, seabob, and royal red shrimp.

The GMFMC anticipates that future action may be necessary to control effort in the Gulf of Mexico shrimp fishery by restricting the number of participants. The GMFMC has been advised by NMFS that the shrimp resources of the Gulf EEZ are fully exploited, especially the penaeid (brown, pink and white) shrimp resources. Recent stock assessments indicate that a reduction in effort would not result in a reduction in yield for these species. Consequently, the GMFMC is concerned that the current level of participation in the Gulf shrimp fishery may not be realizing the maximum economic benefits that could be derived from the resource, and that future increases in participation could further reduce economic benefits. Should the GMFMC take future action to restrict participation in the fishery, they may use December 6, 2003, as a possible control date. This date would give all vessel owners or operators who harvest shrimp from the Gulf EEZ one year to obtain a commercial vessel permit before the control date. Implementation of any program to restrict access in the shrimp fishery would require preparation of an amendment to the FMP and publication of a notice of availability of the amendment with a comment period, publication of a proposed rule with a public comment period, approval of the amendment, and issuance of a final implementing rule.

Consideration of a control date does not commit the GMFMC or NMFS to any particular management regime or criteria for entry into the commercial shrimp fishery. Fishermen are not guaranteed future participation in a fishery regardless of their entry date or intensity of participation in the fishery before or after the control date under consideration. Use of the control date in future management actions would mean that anyone entering the fishery after the control date would not be assured of future access. Even fishermen who are permitted prior to the control date are not guaranteed future participation in a fishery. The GMFMC may choose to give variably weighted consideration to fishermen active in the fisheries before and after the control date. Other qualifying criteria, such as documentation of landings and sales, may be applied for entry. The GMFMC subsequently may choose a different control date or they may choose a management regime that does not make use of a control date. The GMFMC also may choose to take no further action to control entry or access to the fisheries, in which case the control date may be rescinded.

Authority: 16 U.S.C. 1801 et seq.

Dated: April 23, 2003.
Rebecca Lent,
Deputy Assistant Administrator for Regulatory Programs, National Marine Fisheries Service.

[FR Doc. 03-10558 Filed 4-28-03; 8:45 am]

BILLING CODE 3510-22-S